DEPARTMENT OF TRANSPORTATION

Federal Aviation Administration

14 CFR Part 39

[Docket No. 2000-NM-208-AD; Amendment 39-11801; AD 2000-13-02]

RIN 2120-AA64

Airworthiness Directives; Empresa Brasileira de Aeronautica S.A. (EMBRAER) Model EMB-135 and EMB-145 Series Airplanes

AGENCY: Federal Aviation Administration, DOT.

ACTION: Final rule; request for comments.

SUMMARY: This amendment adopts a new airworthiness directive (AD) that is applicable to certain EMBRAER Model EMB-135 and EMB-145 series airplanes. This action requires revising the Airplane Flight Manual, and eventual disconnection of the precooler differential pressure switches. This action is necessary to prevent incorrect operation of the precooler differential pressure switches, which could result in inappropriate automatic shutoff of the engine bleed valve, and consequent inability to restart a failed engine using cross-bleed from the other engine or possible failure of the anti-ice system. This action is also necessary to ensure that the flight crew is advised of the procedures necessary to restart an engine in flight using the auxiliary power unit.

DATES: Effective July 3, 2000.

The incorporation by reference of certain publications listed in the regulations is approved by the Director of the Federal Register as of July 3, 2000.

Comments for inclusion in the Rules Docket must be received on or before July 28, 2000.

ADDRESSES: Submit comments in triplicate to the Federal Aviation Administration (FAA), Transport Airplane Directorate, ANM-114, Attention: Rules Docket No. 2000-NM-208-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via the Internet must contain “Docket No. 2000-NM-208-AD” in the subject line and need not be submitted in triplicate. Comments sent via the Internet as attached electronic files must be formatted in Microsoft Word 97 for Windows or ASCII text.

The service information referenced in this AD may be obtained from Empresa Brasileira de Aeronautica S.A. (EMBRAER), P.O. Box 343—CEP 12.225, Sao Jose dos Campos—SP, Brazil. This information may be examined at the FAA, Transport Airplane Directorate, 1601 Lind Avenue, SW., Renton, Washington; at the FAA, Small Airplane Directorate, Atlanta Aircraft Certification Office, One Crown Center, 1895 Phoenix Boulevard, suite 450, Atlanta, Georgia; or at the Office of the Federal Register, 800 North Capitol Street, NW., suite 700, Washington, DC.

FOR FURTHER INFORMATION CONTACT: Rob Capezzuto, Aerospace Engineer, Systems and Flight Test Branch, ACE-116A, FAA, Small Airplane Directorate, Atlanta Aircraft Certification Office, One Crown Center, 1895 Phoenix Boulevard, suite 450, Atlanta, Georgia 30349; telephone (770) 703-6071; fax (770) 703-6097.

SUPPLEMENTARY INFORMATION: The Departmento de Aviacao Civil (DAC), which is the airworthiness authority for Brazil, recently notified the FAA that an unsafe condition may exist on certain EMBRAER Model EMB-135 and EMB-145 series airplanes. The DAC advises that activation of the precooler differential pressure switches may cause inappropriate automatic shutoff of the engine bleed valve on airplanes on which EMBRAER Service Bulletin No. 145-36-0017, dated March 28, 2000, or the production equivalent, has been accomplished. The inappropriate shutoff is due to incorrect operation of the precooler differential pressure switch and may result in the flight crew being unable to restart a failed engine using cross-bleed from the other engine. Automatic shutoff of the engine bleed valve could also occur during single-bleed operation of the anti-ice system, resulting in possible failure of the anti-ice system.

Explanation of Relevant Service Information

EMBRAER has issued Alert Service Bulletin No. 145-36-A018, dated April 14, 2000, which describes procedures for disconnection of the electrical connector from precooler differential pressure switches in the left and right engine pylons. The DAC classified this alert service bulletin as mandatory and issued Brazilian airworthiness directive 2000-04-01R1, dated May 3, 2000, in order to ensure the continued airworthiness of these airplanes in Brazil.

FAA's Conclusions

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Rule

Since an unsafe condition has been identified that is likely to exist or develop on other airplanes of the same type design registered in the United States, this AD is being issued to prevent incorrect operation of the precooler differential pressure switches, which could result in automatic shutoff of the engine bleed valve, and consequent inability to restart a failed engine using cross-bleed from the other engine or possible failure of the anti-ice system. This AD will also ensure that the flight crew is advised of the procedures necessary to restart an engine in flight using the auxiliary power unit (APU). This AD requires revising the Limitations section of the FAA-approved Airplane Flight Manual (AFM) to prohibit departure without the APU operating and single-bleed operation in icing conditions. This AD also requires revising the Abnormal Procedures section of the AFM to replace the existing “Engine Airstart” instructions with revised instructions that clarify proper procedures for restarting an engine using the APU. This AD also requires accomplishment of the actions specified in the alert service bulletin described previously. Following accomplishment of the actions specified in the alert service bulletin, the revision to the Limitations section of the AFM described previously may be removed.

Interim Action

This is considered to be interim action until final action is identified, at which time the FAA may consider further rulemaking.

Differences Between This AD and the Brazilian Airworthiness Directive

Operators should note that, within 24 hours after the effective date of this AD, this AD requires revising the Limitations and Abnormal Procedures sections of the AFM as described previously. This AD also requires, within 100 flight hours after the effective date of this AD, accomplishment of the actions specified in EMBRAER Alert Service Bulletin No. 145-36-A018. The Brazilian airworthiness directive states that dispatch with the APU inoperative is prohibited immediately upon receipt of their Emergency AD until the accomplishment of the actions in the alert service bulletin. The Brazilian airworthiness directive further provides some guidance for engine starting assisted by the APU, but does not provide the full details of this restart procedure. The FAA finds that the revision of the Limitations section described previously is necessary to mitigate the effects of incorrect operation of the precooler differential pressure switches until the switches are disconnected. The FAA finds that replacement of the existing “Engine Airstart” procedure in the “Abnormal Procedures” section of the AFM is necessary to ensure that the procedure is clear and that the flight crew is properly advised of how to restart a failed engine using the APU.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-208-AD.” The postcard will be date stamped and returned to the commenter.

Regulatory Impact

The regulations adopted herein will not have a substantial direct effect on the States, on the relationship between the national Government and the States, or on the distribution of power and responsibilities among the various levels of government.

Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-13-02 Empresa Brasileira de Aeronautica S.A. (Embraer): Amendment 39-11801. Docket 2000-NM-208-AD.

Applicability: Model EMB-135 and EMB-145 series airplanes; serial numbers 145095, 145099, 145179, 145189, 145197, 145198, 145209 through 145244 inclusive, and 145246 through 145249 inclusive; AND serial numbers 145004 through 145094 inclusive, 145096 through 145098 inclusive, 145100 through 145103 inclusive, 145105 through 145121 inclusive, 145123 through 145139 inclusive, 145141 through 145153 inclusive, 145155 through 145178 inclusive, 145180 through 145188 inclusive, 145190 through 145196 inclusive, and 145199 through 145208 inclusive, on which EMBRAER Service Bulletin No. 145-36-0017, dated March 28, 2000, has been accomplished; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent incorrect operation of the precooler differential pressure switches, which could result in inappropriate automatic shutoff of the engine bleed valve, and consequent inability to perform engine cross-bleed restarts or possible failure of the anti-ice system; and to ensure that the flight crew is advised of proper procedures to restart an engine using the auxiliary power unit; accomplish the following:

Revision to Airplane Flight Manual: Limitations Section

(a) Within 24 hours after the effective date of this AD, revise the Limitations section of the FAA-approved Airplane Flight Manual (AFM) to include the following statements. This may be accomplished by inserting a copy of this AD into the AFM. Following accomplishment of paragraph (c) of this AD, the revisions required by this paragraph may be removed from the AFM.

“THE APU MUST BE OPERATIVE FOR EVERY DEPARTURE.

SINGLE BLEED OPERATION IN ICING CONDITIONS IS PROHIBITED.”

Revision to Airplane Flight Manual: Abnormal Procedures Section

(b) Within 24 hours after the effective date of this AD, replace the existing “ENGINE AIRSTART” procedure in the Abnormal Procedures section of the AFM with the following procedures. This may be accomplished by inserting a copy of this AD into the AFM.

“ENGINE AIRSTART

Affected engine:
One Electric Fuel Pump (A or B) | ON
Ignition | AUTO
Start/Stop Selector | STOP
Engine Bleed | CLOSE
Thrust Lever | IDLE
Airspeed and Altitude | REFER TO AIRSTART ENVELOPE

Perform an assisted start or windmilling, as required.

CAUTION: IN ICING CONDITIONS USE CROSSBLEED START ONLY, TO AVOID LOSS OF ANTI-ICE SYSTEM PERFORMANCE.

Assisted Start:
Crossbleed Start:
N2 (operating engine) | ABOVE 80%
Crossbleed | AUTO OR OPEN
Engine Bleed (operating engine) | OPEN
APU bleed start:
APU | START
APU Bleed | OPEN
Crossbleed | AUTO
Engine Bleed (operating engine) | CLOSE

Start/Stop Selector | START, THEN RUN
Engine Indication | MONITOR

Check ITT and N2 rising. Observe limits. Check ignition and fuel flow indication at 10% N2.

Windmilling Start:
Airspeed | ABOVE 260 KIAS
Minimum N2 | 12%
Start/Stop Selector | START, THEN RUN
ITT and N2 | MONITOR

Note: Windmilling start will be slower than an assisted start. Windmilling start with N2 above 30% and increasing, the loss of altitude may be minimized, by reducing airspeed. Start will be faster if ITT is below 320°C.

After Start:
Affected Engine Bleed | AS REQUIRED
Crossbleed | AUTO
APU Bleed | AS REQUIRED”

Disconnection of the Precooler Differential Pressure Switches

(c) Within 100 flight hours after the effective date of this AD, disconnect the electrical connector from the precooler differential pressure switches in the left and right engine pylons, in accordance with EMBRAER Alert Service Bulletin No. 145-36-A018, dated April 14, 2000. Following accomplishment of this paragraph, the AFM revision required by paragraph (a) of this AD may be removed from the AFM.

Alternative Methods of Compliance

(d) An alternative method of compliance or adjustment of the compliance time that provides an acceptable level of safety may be used if approved by the Manager, Atlanta Aircraft Certification Office (ACO), FAA, Small Airplane Directorate. Operators shall submit their requests through an appropriate FAA Principal Maintenance Inspector, who may add comments and then send it to the Manager, Atlanta ACO.

Note 2: Information concerning the existence of approved alternative methods of compliance with this AD, if any, may be obtained from the Atlanta ACO.

Special Flight Permits

(e) Special flight permits may be issued in accordance with sections 21.197 and 21.199 of the Federal Aviation Regulations (14 CFR 21.197 and 21.199) to operate the airplane to a location where the requirements of this AD can be accomplished.

Incorporation by Reference

(f) The disconnection of the precooler differential pressure switches shall be done in accordance with EMBRAER Alert Service Bulletin No. 145-36-A018, dated April 14, 2000. This incorporation by reference was approved by the Director of the Federal Register in accordance with 5 U.S.C. 552(a) and 1 CFR part 51. Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the FAA, Small Airplane Directorate, Atlanta Aircraft Certification Office, One Crown Center, 1895 Phoenix Boulevard, suite 450, Atlanta, Georgia; or at the Office of the Federal Register, 800 North Capitol Street, NW., suite 700, Washington, DC.

Note 3: The subject of this AD is addressed in Brazilian airworthiness directive 2000-04-01R1, dated May 3, 2000.

Effective Date

(g) This amendment becomes effective on July 3, 2000.

Issued in Renton, Washington, on June 20, 2000.
Donald L. Riggin,
Acting Manager, Transport Airplane Directorate, Aircraft Certification Service.

[FR Doc. 00-16110 Filed 6-26-00; 8:45 am]

BILLING CODE 4910-13-U